DEPARTMENT OF ENERGY

Notice of Availability of the Revised Draft Environmental Impact Statement for Decommissioning and/or Long-Term Stewardship at the West Valley Demonstration Project and Western New York Nuclear Service Center

AGENCY: Department of Energy.

ACTION: Notice of availability.

SUMMARY: The U.S. Department of Energy (DOE) announces the availability of the Revised Draft Environmental Impact Statement for Decommissioning and/or Long-Term Stewardship at the West Valley Demonstration Project and Western New York Nuclear Service Center (DOE/EIS-0226-D [Revised]) (referred to as the “Draft Decommissioning and/or Long-Term Stewardship EIS” or “Draft EIS”). This Draft EIS revises the Draft Environmental Impact Statement for Completion of the West Valley Demonstration Project and Closure or Long-Term Management of Facilities at the Western New York Nuclear Service Center (DOE/EIS-0226-D) issued for public comment in January 1996 (referred to as the “1996 Cleanup and Closure Draft EIS”).

This Draft EIS was prepared in accordance with the Council on Environmental Quality's National Environmental Policy Act (NEPA) Implementing Regulations (40 CFR parts 1500-1508) and the DOE NEPA Implementing Procedures (10 CFR part 1021). DOE and the New York State Energy Research and Development Authority (NYSERDA) are joint lead agencies for preparing the Draft EIS, while the U.S. Nuclear Regulatory Commission (NRC), the U.S. Environmental Protection Agency (EPA), and the New York State Department of Environmental Conservation (NYSDEC) are cooperating agencies. NYSDEC and the New York State Department of Health (NYSDOH) are involved agencies under the New York State Environmental Quality Review Act (SEQRA).

This Draft EIS analyzes alternatives for decommissioning the site and/or long-term stewardship, as well as a No Action Alternative as required by NEPA and SEQRA. The Proposed Action is the completion of the West Valley Demonstration Project (WVDP) and the decommissioning and/or long-term management or stewardship of the Western New York Nuclear Service Center (WNYNSC). This includes the decontamination and decommissioning of the waste storage tanks and facilities used in the solidification of high-level radioactive waste, and any material and hardware used in connection with the WVDP. DOE needs to determine the manner in which facilities, materials, and hardware for which the Department is responsible will be managed or decommissioned in accordance with applicable Federal and State requirements. NYSERDA needs to determine what material or structures for which it is responsible will remain on site, and what institutional controls, engineered barriers, or stewardship provisions would be needed.

For the Proposed Action, the three action alternatives evaluated in the Draft EIS are Sitewide Removal, Sitewide Close-In-Place, and Phased Decisionmaking. A No Action Alternative is also evaluated in accordance with NEPA, which would continue management and oversight of the WNYNSC under the conditions that will exist at the Starting Point of this EIS in 2011.

DATES: The public is invited to comment on the Draft EIS, and all comments received which are postmarked no later than the end of the public comment period, June 8, 2009, will be addressed in preparing the Final EIS. Comments postmarked after this date will be considered to the extent practicable. Public hearings on the Draft EIS will be held at the following dates and locations in New York: Tuesday, March 31, 2009, Seneca Nation of Indians, William Seneca Building, 12837 Rte. 438, Irving, NY; Wednesday, April 1, 2009, Ashford Office Complex, 9030 Route 219, West Valley, NY; and Thursday, April 2, 2009, Clarion Hotel—McKinley's Banquet and Conference Center, S-3950 McKinley Parkway, Blasdell, NY. Information regarding these dates, times and locations will be announced via other means such as local press announcements. Oral and written comments will be accepted at the public hearings.

ADDRESSES: Copies of this Draft EIS are available for review at the Concord Public Library, 18 Chapel Street, Springville, NY 14141, (716) 592-7742, the Ashford Office Complex Reading Room, 9030 Route 219, West Valley, NY 14171, (716) 942-4555 and the U.S. Department of Energy, FOIA Reading Room, 1E-190, Forrestal Bldg., 1000 Independence Ave., SW., Washington, DC 20585, 202-586-3142.

This Draft EIS is also available at http://www.westvalleyeis.com.

Oral and written comments on the Draft EIS will be accepted at the public hearings, or written comments may be mailed to Catherine Bohan, EIS Document Manager, West Valley Demonstration Project, U.S. Department of Energy, P.O. Box 2368, Germantown, MD 20874. Comments or requests for information may also be submitted via e-mail at http://www.westvalleyeis.com or by faxing toll-free to 866-306-9094. Please mark all envelopes, faxes and e-mail: “Draft Decommissioning and/or Long-Term Stewardship EIS Comments.” All comments received or postmarked during the comment period will be considered during preparation of the Final EIS. Late comments will be considered to the extent practicable.

FOR FURTHER INFORMATION CONTACT: For information regarding the WVDP or this Draft EIS, contact Catherine Bohan at the above address. The following Web sites may also be accessed for additional information on the Draft EIS or the West Valley Site: http://www.westvalleyeis.com or http://www.wv.doe.gov.

For general information on DOE's NEPA process contact: Carol Borgstrom, Director, Office of NEPA Policy and Compliance (GC-20), U.S. Department of Energy, 1000 Independence Avenue, SW., Washington, DC 20585; e-mail AskNEPA@hq.doe.gov; telephone 202-586-4600; or leave a message at 800-472-2756. The Draft EIS will also be accessible through the Department's NEPA Web site at http://www.gc.energy.gov./NEPA.

For general questions and information about NYSERDA, contact Paul Bembia, Program Director, West Valley Site Management Program, New York State Energy Research and Development Authority, Ashford Office Complex, 9030 Route 219, West Valley, NY 14171; telephone 716-942-9960, extension 4900; fax 716-942-9961; or e-mail pjb@nyserda.org.

SUPPLEMENTARY INFORMATION: The WNYNSC is located south of Buffalo, NY, owned by NYSERDA, on behalf of New York State, and was the site of a commercial nuclear fuel reprocessing facility. Spent fuel reprocessing operations conducted from 1966 to 1972 resulted in the generation of 2,500,000 liters (660,000 gallons) of high-level radioactive waste, which were stored in two underground tanks. WVDP was authorized by Congress in 1980 to demonstrate the solidification of the high-level radioactive waste remaining in the underground tanks at the WNYNSC site. Through a Cooperative Agreement between DOE and NYSERDA, DOE assumed control, but not ownership, of the project premises portion of the site (the area in which the WVDP is located) in order to conduct the WVDP. Solidification of the high-level radioactive waste was completed in 2002, and the solidified high-level radioactive waste is currently stored at the site and will ultimately be transported to an appropriate Federal repository for permanent disposal.

A Draft EIS for cleanup and closure of the WNYNSC was issued for public comment in 1996 (1996 Cleanup and Closure Draft EIS), but a Preferred Alternative was not identified, and a Final EIS was not issued. Instead, DOE and NYSERDA believed it was important to defer selection of a Preferred Alternative until more studies and analyses were completed and the NRC policy statement, including decommissioning criteria for the WVDP, were issued. Since that time, additional data have been collected on structural geology, local fractures, and seismicity. Designs for potential engineering approaches for decommissioning have been evaluated. Disposal area and facility inventory reports have been updated; improved methods for analyzing erosion and groundwater flow and transport have been developed and refined; a citizen task force has been consulted on the nature of a Preferred Alternative; and workshops to refine methods for long-term performance assessment have been conducted. Assumptions and design features for specific alternatives were reviewed and revised.

This Draft Decommissioning and/or Long-Term Stewardship revises the 1996 clean-up and closure EIS, and was prepared in accordance with the Council on Environmental Quality's National Environmental Policy Act NEPA Implementing Regulations (40 CFR Parts 1500-1508) and DOE NEPA Implementing Procedures (10 CFR Part 1021). DOE and NYSERDA are joint lead agencies for preparing the Draft EIS, while NRC, EPA and NYSDEC are cooperating agencies. NYSDEC and NYSDOH are involved agencies under SEQRA. DOE needs to determine what material or structures for which it is responsible will remain on site, and what institutional controls, engineered barriers, or stewardship provisions would be needed. NYSERDA needs to determine the manner in which facilities and property for which NYSERDA is responsible, including the State-licensed Disposal Area, will be managed or decommissioned, in accordance with applicable Federal and State requirements. To this end, NYSERDA needs to determine what material or structures for which it is responsible will remain on site, and what institutional controls, engineered barriers, or stewardship provisions would be needed.

This Draft EIS is intended to support DOE and NYSERDA decisions regarding the Proposed Action, which is the completion of the WVDP and the decommissioning and/or long-term management or stewardship of the WNYNSC. This would include the disposition of the high-level radioactive waste storage tanks, the former spent fuel reprocessing plant, the North Plateau Groundwater Plume, the Cesium Prong, the NRC-licensed Disposal Area (NDA), and the State-licensed Disposal Area (SDA). The three action alternatives evaluated for the Proposed Action are as follows:

Sitewide Removal: Under this alternative, all site facilities as outlined in this Draft EIS would be removed; all environmental media would be decontaminated; and all radioactive, hazardous, and mixed waste would be characterized, packaged as necessary, and shipped off site for disposal. Completion of these activities would allow unrestricted use of the site (i.e., the site could be made available for any public or private use). This alternative includes temporary onsite storage of vitrified high-level radioactive waste canisters pending the availability of a Federal repository.

Sitewide Close-In-Place: Under this alternative, most facilities would be closed in place. Residual radioactivity in facilities with larger inventories of long-lived radionuclides would be isolated by specially designed closure structures and engineered barriers. Major facilities and sources of contamination, such as the Waste Tank Farm and burial grounds, would be managed at their current locations. This would allow large areas of the site to be released for unrestricted use. The license for remaining portions of the WNYNSC could be terminated under restricted conditions, or those portions could remain under long-term NRC license or permit. Facilities that are closed in-place, and any buffer areas around them, would require long-term stewardship.

Phased Decisionmaking: Under this alternative, decommissioning would be completed in two phases. This alternative involves near-term removal actions where there is agency consensus and characterization studies to facilitate decisionmaking for the remaining facilities or areas.

Phase 1 would include removal of the Main Plant Process Building, the source of the North Plateau Groundwater Plume, and the lagoons on the WVDP premises. All facilities and the lagoons would be removed, except for the permeable treatment wall (an in-situ groundwater mitigation technology). Phase 1 decisions would also include removal of a number of other facilities on the WVDP premises. No decommissioning or long-term management activities would be conducted for the Waste Tank Farm and its support facilities, the construction and demolition debris landfill, the non-source area of the North Plateau Groundwater Plume, or the NDA. The SDA would continue under active management, consistent with its permit and license requirements. Phase 1 activities would make use of proven technologies and available waste disposal sites to reduce the potential near-term health and safety risks from residual radioactivity and hazardous contaminants at the site. Phase 1 would also include an ongoing assessment period during which DOE and NYSERDA would conduct additional studies, evaluations, and characterization of site contamination. The studies and evaluations would be conducted to clarify and possibly reduce technical uncertainties related to the decision on final decommissioning and long-term management of the site, particularly uncertainties associated with the long-term performance models, the performance of engineered barriers and other technologies for in-place containment, the viability and cost of technology for exhuming buried waste, and the availability of waste disposal sites. In consultation with NYSERDA and the cooperating and involved agencies on this Draft EIS, DOE would determine whether the new information warrants a new or supplemental EIS. NYSERDA also would assess the results of site-specific studies and other information during Phase 1 to determine the need for additional SEQRA documentation.

According to the approach determined most appropriate during the additional Phase 1 studies and evaluations, Phase 2 would complete decommissioning or long-term management decisionmaking. Under the Phased Decisionmaking Alternative, the Phase 2 decision would be made within 30 years.

No Action Alternative: Under this alternative, no actions toward decommissioning would be taken. This alternative would involve the continued management and oversight of all facilities located on the WNYNSC property as of the Starting Point for this EIS in 2011. The No Action Alternative does not meet the Purpose and Need for agency action, but analysis of the No Action Alternative is required under NEPA and SEQRA as a basis of comparison.

Preferred Alternative: The Phased Decisionmaking Alternative is DOE's and NYSERDA's Preferred Alternative.

Combination Alternatives: DOE and NYSERDA recognize that, after consideration of public comments, some combination of alternatives analyzed in the Draft EIS may be identified as the best way to meet agency goals and protect human health and safety and the environment. If a specific combination alternative is identified as preferred between the Draft and Final EISs, DOE would present the combination alternative and its potential impacts in the Final EIS. If a combination alternative is ultimately selected for implementation, the Record of Decision and Findings Statement (under SEQRA) would explain the reasons DOE and NYSERDA made that decision.

Following the end of the public comment period, DOE will consider and respond to the comments received, and issue the Final Decommissioning and/or Long-Term Stewardship EIS, including a Comment Response Document. DOE will issue a Record of Decision no sooner than 30 days after EPA issues a Notice of Availability of the final EIS in the Federal Register.

Signed in Washington, DC, November 25, 2008.
Ines R. Triay,
Acting Assistant Secretary for Environmental Management.

[FR Doc. E8-28806 Filed 12-4-08; 8:45 am]

BILLING CODE 6450-01-P